DEPARTMENT OF ENERGY

Federal Energy Regulatory Commission

Notice of Application for Amendment of License and Soliciting Comments, Motions to Intervene, and Protests

June 4, 2001.

Take notice that the following application has been filed with the Commission and is available for public inspection:

a. Application Type: Amendment of License to Change Project Boundary.

b. Project No: 2579-040.

c. Date Filed: April 2, 2001.

d. Applicant: Indiana Michigan Power Company.

e. Name of Project: Twin Branch.

f. Location: St. Joseph River, Mishawaka, St. Joseph County, Indiana.

g. Filed Pursuant to: Federal Power Act, 16 USC 791(a) 825(r) and 799 and 801.

h. Applicant Contact: Mr. Frank M. Simms, Fossil and Hydro Operations, American Electric Power, 1 Riverside Plaza, Columbus, OH 43215-2373, (614) 223-2918, fmsimms@aep.com.

i. FERC Contact: Any questions on this notice should be addressed to: Anumzziatta Purchiaroni at (202) 219-3297, or e-mail address: anumzziatta.purchiaroni@ferc.fed.us.

j. Deadline for filing comments and or motions: July 12, 2001.

All documents (original and eight copies) should be filed with: David P. Boergers, Secretary, Federal Regulatory Commission, 888 First Street, NE., Washington, DC 20426. Comments, protests, and interventions may be filed electronically via the Internet in lieu of paper. See, 18 CFR 385.2001(a)(1)(iii) and the instructions on the Commission's web site at http://www.ferc.fed.us/efi/doorbell.htm.

Please include the project number (P-2579-040) on any comments or motions filed.

k. Description of Request: Indiana Michigan Power Company (I&M) is requesting the Commission's approval to fill an existing channel located within the project boundary. The channel forms an island, and provides access to the St. Joseph River to four property owners. Accumulation of sediments has allowed for wetland type vegetation to grow on the channel surface. Additionally, accumulation of debris and other materials in the channel area have caused some health concerns among the City officials. To permanently solve this problem, I&M is proposing to fill the channel area, so as to connect the island with properties across the channel. I&M is proposing to remove the filled channel and island from the project boundary, and to replace the wetland area, that would be lost by channel filling, to another location within the project boundary. The channel and the island are both owned by the licensee.

l. Locations of the Application: A copy of the application is available for inspection and reproduction at the Commission's Public Reference Room, located at 888 First Street, NE., Room 2A, Washington, DC 20426, or by calling (202) 208-1371. This filing may be viewed on http://www.ferc.fed.us/online/rims.htm (call (202) 208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTESTS”, or “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. one copy of any agency's comments must also be sent to the Applicant's representatives.

David P. Boergers,
Secretary.

[FR Doc. 01-14464 Filed 6-7-01; 8:45 am]

BILLING CODE 6717-01-M